DEPARTMENT OF ENERGY

Federal Energy Regulatory Commission

Notice of FERC Staff Attendance at Southwest Power Pool Board of Directors/Members Committee Meetings and Southwest Power Pool Regional State Committee Meeting

April 11, 2007.

The Federal Energy Regulatory Commission hereby gives notice that members of its staff may attend the meetings of the Southwest Power Pool (SPP) Board of Directors/Members Committee and SPP Regional State Committee noted below. Their attendance is part of the Commission's ongoing outreach efforts.

SPP Regional State Committee: April 23, 2007 (1 p.m.-5 p.m.), The Skirvin Hilton Hotel, One Park Avenue, Oklahoma City, Oklahoma 73102, 405-272-3040.

Board of Directors/Members Committee: April 24, 2007 (8:30 a.m.-3 p.m.), The Skirvin Hilton Hotel, One Park Avenue, Oklahoma City, Oklahoma 73102, 405-272-3040.

The discussions may address matters at issue in the following proceedings:

Docket No. ER04-1232, Southwest Power Pool, Inc.

Docket No. ER05-799, Southwest Power Pool, Inc.

Docket No. ER05-526, Southwest Power Pool, Inc.

Docket No. ER05-1416, Southwest Power Pool, Inc.

Docket No. EL06-83, Southwest Power Pool, Inc.

Docket No. ER06-432, Southwest Power Pool, Inc.

Docket No. ER06-448, Southwest Power Pool, Inc.

Docket No. ER06-451, Southwest Power Pool, Inc.

Docket No. ER06-1047, Southwest Power Pool, Inc.

Docket No. ER06-767, Southwest Power Pool, Inc.

Docket Nos. ER06-1485 and ER07-266, Xcel Energy Services, Inc.

Docket No. ER06-1488, Oklahoma Gas & Electric Company.

Docket No. ER06-1463, Empire District Electric Company.

Docket No. ER07-385, American Electric Power Service Corporation.

Docket No. ER06-1471, Westar Energy, Inc.

Docket No. ER06-1467, Southwest Power Pool, Inc.

Docket No. EL06-71, Associated Electric Cooperative, Inc. v Southwest Power Pool.

Docket No. ER07-14, Southwest Power Pool, Inc.

Docket Nos. ER07-211 and ER07-709, Southwest Power Pool, Inc.

Docket No. ER07-314, Southwest Power Pool, Inc.

Docket No. ER07-319, Southwest Power Pool, Inc.

Docket No. ER07-603, Southwest Power Pool, Inc.

These meetings are open to the public.

For more information, contact John Rogers, Office of Energy Markets and Reliability, Federal Energy Regulatory Commission at (202) 502-8564 or john.rogers@ferc.gov.

Kimberly D. Bose,
Secretary.

[FR Doc. E7-7311 Filed 4-17-07; 8:45 am]

BILLING CODE 6717-01-P